DEPARTMENT OF THE INTERIOR

Bureau of Indian Affairs

[178A2100DD/AAKC001030/A0A501010.999900 253G]

Proclaiming Certain Lands as Reservation for the Jamestown S'Klallam Tribe of Washington

AGENCY: Bureau of Indian Affairs, Interior.

ACTION: Notice of reservation proclamation.

SUMMARY: This notice informs the public that the Acting Assistant Secretary—Indian Affairs proclaimed approximately 267.29 acres, more or less, an addition to the reservation of the Jamestown S'Klallam Tribe on July 21, 2017.

FOR FURTHER INFORMATION CONTACT: Ms. Sharlene M. Round Face, Bureau of Indian Affairs, Division of Real Estate Services, 1849 C Street NW., MS-4642-MIB, Washington, DC 20240, Telephone: (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the land described below. The land was proclaimed to be the Jamestown S'Klallam Reservation for the Jamestown S'Klallam Tribe, Clallam County, State of Washington.

Jamestown S'Klallam Reservation for the Jamestown S'Klallam Tribe

14 Parcels—Legal Description Containing 267.29 Acres, More or Less

Tribal Tract Number: 129-T1004

Legal description containing 5.090 acres, more or less.

That portion of Lot 28 of Keeler's Sunrise Beach, as recorded in Volume 4 of plats, page 46, records of Clallam County, Washington, lying between the Northeasterly right of way line of the Chicago, Milwaukee, St. Paul and Pacific Railway and the Northeasterly right of way line of the present existing State Highway No. 9 and bounded on the Southeasterly end by the Northerly right of way line of the existing Old Olympic Highway;

Also, that portion of the Northeast Quarter of the Southeast Quarter of Section 34, Township 30 North, Range 3 West, W.M., Clallam County, Washington, lying between the Northeasterly right of way line of the Chicago, Milwaukee, St. Paul and Pacific Railway and the Northeasterly right of way line of the present existing State Highway No. 9.

Excepting therefrom that portion of the Northeast Quarter of the Southeast Quarter of said Section 34, Township 30 North, Range 3 West, W.M., Clallam County, Washington, described as follows starting and ending at the point identified as the True Point Of Beginning:

Commencing at the East Quarter Corner of said Section 34; thence North 87°42′55″ West, a distance of 317.69 feet along the North Line of the said Northeast Quarter of the Southeast Quarter to a point lying on the Northeasterly right-of-way line of the abandoned Chicago, Milwaukee, St. Paul and Pacific Railroad and the True Point Of Beginning; Thence South 49°56′33″ East along said right-of-way line, a distance of 112.08 feet to a point lying on a tangent curve, concave Southwesterly and having a radius of 2914.62 feet; Thence Southeasterly along said curve through a central angle of 05°25′36″, an arc length of 276.05 feet; Thence leaving said curve North 85°53′09″ West, a distance of 33.08 feet; Thence North 46°13′33″ West, a distance of 372.52 feet to the North line of said Northeast Quarter of the Southeast Quarter; Thence South 87°42′55″ East along said North line, a distance of 13.65 feet to the True Point of Beginning. As described in Boundary Line Agreement recorded May 29, 2007 as Recording No. 2007-1201967. Said instrument is a re-recording of Auditor's File No. 2007-1200907 and 2007-1201792. Situate in the County of Clallam, State of Washington. Containing 5.090 acres, more or less.

Tribal Tract Number: 130-T1169

Legal description containing 30.36 acres, more or less.

Parcel A: The East Half of the Southeast Quarter of the Northeast Quarter and the Southeast Quarter of the Northeast Quarter of the Northeast Quarter in Section 11, Township 30 North, Range 4 West, W.M., Clallam County, Washington.

Parcel B: An easement for ingress, egress and utilities over a 30 foot easement along the East Line of the Northeast Quarter of the Northeast Quarter of the Northeast Quarter in Section 11, Township 30 North, Range 4 West, W.M., Clallam County, Washington. Containing 30.36 acres, more or less.

Tribal Tract Number: 129-T1003

Legal description containing 5.00 acres, more or less.

Parcel A: That portion of the South Half of the Northeast Quarter of the Northeast Quarter of Section 26, Township 30 North, Range 4 West, W.M., Clallam County, Washington, described as Parcel 1 as delineated on Survey recorded in Volume 4 of Surveys, page 25, under Auditor's File No. 497555, situate in Clallam County, State of Washington.

Parcel B: An easement for ingress, egress and utilities over, under and across the South 15 feet of Parcel 3 and the North 15 feet of the West 582 feet and East 30 feet of the South 327.61 feet of Parcel 4 of Survey recorded June 29, 1979 in Volume 4 of Surveys, page 25 under Auditor's File No. 497555, being a portion of the South Half of the Northeast Quarter of the Northeast Quarter of Section 26, Township 30 North, Range 4 West, W.M., Clallam County, Washington;

Also together with an easement for access across the South 30 feet of the East 82.74 feet of said Northeast Quarter of the Northeast Quarter; Also the right of easement to use for construction and maintenance of sewage disposal drainfields and appurtenances, over, under, across and upon the Northeast Quarter of Parcel 2 recorded under Auditor's File No. 497555. Containing 5.00 acres, more or less.

Tribal Tract Number: 156-T1157

Legal description containing 2.75 acres, more or less.

Lot U, Jamestown Addition in the North Half of Section 5, Township 30 North, Range 3 West, Williamette Meridian, Records of Clallam County, Washington, except any portion lying within County Road NR5550 (Jake Hall Road). Situate in Clallam County, State of Washington. Containing 2.75 acres, more or less.

Tribal Tract Number: 130-T1161

Legal description containing 1.18 acres, more or less.

That portion of Tracts 2, 3, 5, and 5A in Lot 2 of Assessor's Plat of Section 12, Township 29 North, Range 3 West, W.M., Clallam County, Washington, as recorded in Volume 4 of Plats, Page 5, lying Westerly of Zaccardo Road and Northerly of Boundary Line established in instrument recorded May 14, 1992 under Auditor's File No. 668449 described as follows:

Beginning at the Southwest Corner of said Tract 3; Thence South 30°32′52″ East 10.0 feet; Thence North 64°00′06″ East 208.45 feet to the Westerly margin of Zaccardo Road and the terminus of said line description. Situate in Clallam County, Washington. Containing 1.18 acres, more or less.

Tribal Tract Number: 130-T1175

Legal description containing 5.007 acres, more or less.

That portion of Government Lot 6 in Section 7, Township 29 North, Range 2 West, W.M., Clallam County, Washington, as delineated on Survey recorded in Volume 20 of Surveys, page 82, under Auditor's File No. 650637, more particularly described as follows: Beginning at the Northwest Corner of said Government Lot 6; Thence South 85 Degrees 31′53″ East along the North line of said Government Lot 6, a distance of 20 feet to the True Point of Beginning; Thence continuing South 85 degrees 31′53″ East, a distance of 970.00 feet; Thence South 2 Degrees 24′56″ West, parallel to the West Line of said Government Lot 6, a distance of 191.00 feet; Thence North 85 degrees 31′53″ West, parallel to the North Line of said Government Lot 6, a distance of 730.00 feet; Thence South 2 degrees 24′56″ West, parallel to the West line of said Government Lot 6, a distance of 137.40 feet; Thence North 85 degrees 31′53″ West, parallel to the North Line of said Government Lot 6, a distance of 240.00 feet to the intersection of the East right of way line of Zaccardo Road; Thence North 2 degrees 24′56″ East, parallel to the West line of said East right of way Line of Zaccardo Road; Thence North 2 degrees 24′56″ East, parallel to the West line of said East right of way line of Zaccardo Road also being parallel to the West line of said Government Lot 6, a distance of 328.40 feet to the True Point of Beginning. Situate in Clallam County, State of Washington. Containing 5.007 acres, more or less.

Tribal Tract Number: 130-T1162

Legal description containing 1.19 acres, more or less.

Lot 1 of Short Plat recorded in Volume 7 of Short Plats; Page 3, Under Clallam County Recording No. 496835, being a short plat of Parcel 5 of Survey recorded in Volume 3 of Surveys, page 119, in the Northwest Quarter of the Southwest Quarter of Section 12, Township 29 North, Range 3 West, W.M. Situate in Clallam County, State of Washington. Containing 1.19 acres, more or less.

Tribal Tract Number: 130-T1165

Legal description containing 3.52 acres, more or less.

Lot 2, 3 and 4 of Clevenger Short Plat recorded on June 6, 1979 In Volume 7 of Short Plats, Page 3, Under Auditor's File No. 496835, being a portion of the Northwest Quarter of the Southwest Quarter in Section 12, Township 29 North, Range 3 West, W.M., Clallam County, Washington. Containing 3.52 acres, more or less.

Tribal Tract Number: 130-T1164

Legal description containing 6.00 acres, more or less.

That portion of the West Half of Section 12, Township 29 North, Range 3 West, W.M., Clallam County, Washington, described as Lot 2, as delineated on Survey recorded on October 8, 1982 in Volume 8 of Surveys, page 17, under Auditor's File No. 535557. Containing 6.00 acres, more or less.

Tribal Tract Number: 129-T1000

Legal description containing 13.43 acres, more or less.

Portion of Tract 5 of Lot 1 of Assessor's Map of Section 12, together with tidelands in front of, adjacent to or abutting on the South 295 feet of Lot 1, per Independent Survey dated 7-9-91, recorded 8-21-91, in Volume 21, Page 68, under File Number 655576. Situated in Clallam County, State of Washington. Containing 13.43 acres, more or less.

Tribal Tract Number: 130-T1178

Legal description containing 24.220 acres, more or less.

That portion of the Northeast Quarter of the Northeast Quarter of Section 23, Township 30 North, Range 4 West, W.M., Clallam County, Washington, lying East of the Dungeness River described as follows:

Beginning at the Northeast Corner of said Section 23, said Northeast Corner being South 88 degrees 31′10″ East 2655.02 feet from the North Quarter Corner of said Section 23, and also being North 1 degree 58′10″ East 2657.11 feet from the East Quarter Corner of said Section 23, Thence South 89 degrees 58' West 506 feet, more or less, to the East edge of the Dungeness River; Thence Southerly along said East edge 468 feet, more or less, to a point which bears South 49 degrees 58′40″ West 680.40 feet from the Point of Beginning; Thence East 88.18 feet to the Northwesterly right of way of the County Road; Thence along said right of way being 30 feet perpendicular from the existing centerline thereof 570 feet, more or less, to a point on the East line of said Section 23, which point bears South 1 degree 58′10″ West 104.70 feet from the True Point of Beginning; Thence North 1 degree 58′10″ East 104.70 feet to the True Point of Beginning, containing 4.34 acres, more or less.

That portion of the Northeast Quarter of the Northeast Quarter of Section 23, Township 30 North, Range 4 West, W.M., Clallam County, Washington, lying East of the Dungeness River as it presently exists and South of the railroad right of way, more particularly described as follows:

Beginning at the Northeast Section Corner, said Section 23, Thence South 1 degree 58′10″ West along the East line thereof 670.05 feet to the South margin of the railroad right of way to the True Point of Beginning; Thence continuing South 1 degree 58′10″ West along said East line 658.50 feet to the South line of said Northeast Quarter of the Northeast Quarter; Thence North 89 degrees 33′15″ West along said South line 355 feet, more or less, to the East bank of Dungeness River; Thence continuing along the approximate East bank of the Dungeness River North 20 degrees 06′ East 89.64 feet; Thence North 7 degrees East 180 feet; Thence North 7 degrees West 70 feet; Thence North 13 degrees West 200 feet; Then North 18 degrees West 150 feet to the South margin of railroad right of way; Thence along said railroad right of way South 88 degrees 02′45″ East 425 feet, more or less, to the True Point of Beginning, containing 5.14 acres, more or less.

That portion of the West 107.5 feet of the Northwest Quarter of the Northwest Quarter of Section 24, Township 30 North, Range 4 West, W.M., Clallam County, Washington, lying Northerly of the Centerline of County Road known as Hendrickson Road; Except that portion lying in said Hendrickson Road, containing 0.24 acre, more or less, after the above exception.

A strip of land 100 feet wide being the former right of way for the Chicago, Milwaukee, St. Paul and Pacific Railroad Company located in the Northeast Quarter of the Northwest Quarter and the North Half of the Northeast Quarter of Section 23, Township 30 North, Range 4 West, W.M., Clallam County, Washington, containing 6.0 acres, more or less.

Parcel A: That portion of the South Half of the South Half of the South Half of the Southeast Quarter of Section 14, Township 30 North, Range 4 West, W.M., Clallam County, Washington, lying East of the Dungeness River as it presently exists.

Parcel B: An easement 60 feet wide for ingress and egress over and across that portion of the Northeast Quarter of the Northeast Quarter of Section 23, Township 30 North, Range 4 West, W.M., Clallam County, Washington, lying east of the Dungeness River as it presently exists and North of the railroad right of way and North of County Road. Parcels A & B, containing 8.50 acres, more or less. Total Tract acres 24.220 acres, more or less.

Tribal Tract Number: 130-T1207

Legal description contains 11.035 acres, more or less.

Parcel A—Valaske: Lots 1 and 2 of Valaske Short Plat, recorded December 2, 1987 in Volume 18 of Short Plats, Page 18, under Clallam County Recording No. 598399, being a portion of the Northwest Quarter of the Southeast Quarter of Section 12, Township 29 North, Range 3 West, W.M., Clallam County, Washington.

Title to the lands herein described shall be subject to any existing easements for public road and highways, for public utilities and for railroads and pipelines and any other rights-of-way of record.

Parcel B—McPherson: All of James McPherson Short Plat, recorded April 6, 1976 in Volume 1 of Short Plats, Page 82, under Clallam County Recording No. 452796, being a portion of the Northeast Quarter of the Southwest Quarter of Section 12, Township 29 North, Range 3 West, W.M., Clallam County, Washington.

Parcel C—McLaughlin: Lot 1 of Burlile Short Plat recorded January 12, 1987 in Volume 17 of Short Plats, Page 45, under Auditor's File No. 586768, being a portion of the Northeast Quarter of the Southwest Quarter of Section 12, Township 29 North, Range 3 West, W.M., Clallam County, Washington; and That portion of Lot 2 of said Burlile Short Plat lying westerly of the following described line:

Beginning at the Southeast Corner of said Lot 2; Thence North 84 15′10″ West along the South line thereof 71.264 feet; Thence North 07 30′00″ West 237.507 feet; Thence North 31 30′00″ West 100.88 feet to the West Line of Lot 2; Thence North 06 36′08″ East along said West Line 144.62 feet to the North line of Lot 2.

Parcel D—McLaughlin: Lot 2 of Burlile Short Plat recorded January 12, 1987 in Volume 17 of Short Plats, Page 45, under Auditor's File No. 586768, being a portion of the Northeast Quarter of the Southwest Quarter of Section 12, Township 29 North, Range 3 West, W.M., Clallam County, Washington; Except that portion thereof lying westerly of the following described line:

Beginning at the Southeast Corner of said Lot 2; Thence North 84 15′10″ West along the South line thereof 71.264 feet; Thence North 07 30′00″ West 237.507 feet; Thence North 31 30′00″ West 100.88 feet to the West Line of Lot 2; Thence North 06 30′08″ East along said West line 144.62 feet to the North line of Lot 2.

Situate in Clallam County, State of Washington. Containing 11.035 acres, more or less.

Tribal Tract Number: 157-T1202

Legal description containing 19.15 acres, more or less.

The land referred to herein is situated in the County of Clallam, State of Washington, and described as follows:

Beginning at a point on the North-South line, 550 feet South of Center Section 12, Township 29 North, Range 3 West, W.M., Clallam County, Washington, described as follows:

Thence North 83½° West, a distance of 66 feet;

Thence North 53½° West, a distance of 81 feet;

Thence North 160 feet;

Thence Easterly along South boundary of right of way Highway 101, a distance of 54 feet;

Thence South 226 feet, more or less, to the POINT OF BEGINNING. Situate in Clallam County, State of Washington.

Lot 2 of Jamestown S'Klallam Tribe Survey, recorded February 13, 2009 in Volume 67 of Surveys, page 94, under Clallam County Recording No. 2009 1232429, being a portion of the Northeast Quarter of the Southwest Quarter of Section 12, Township 29 North, Range 3 West, W.M., Clallam County, Washington. Situate in Clallam County, State of Washington.

Lot 3 of Jamestown S'Klallam Tribe Survey, recorded February 13, 2009 in Volume 67 of Surveys, page 94, under Clallam County Recording No. 2009 1232429, being the Northeast Quarter of the Southeast Quarter of the Southwest Quarter of Section 12, Township 29 North, Range 3 West, W.M., Clallam County, Washington. Situate in Clallam County, State of Washington.

Lot 1 of Jamestown S'Klallam Tribe Survey, recorded February 13, 2009 in Volume 67 of Surveys, page 94, under Clallam County Recording No. 2009 1232429, being a portion of the Southeast Corner of the Northeast Quarter of the Southwest Quarter of Section 12, Township 29 North, Range 3 West, W.M., Clallam County, Washington. Situate in Clallam County, State of Washington.

Parcels A and B of Meyer Boundary Line Adjustment Survey, recorded December 14, 2004, in Volume 57 of Surveys, page 1, under Clallam County Recording No. 2004 1147158, being a portion of the Northwest Quarter of the Southeast Quarter of Section 12, Township 29 North, Range 3 West, W.M., Clallam County, Washington. Situate in Clallam County, State of Washington. Containing 19.15 acres, more or less.

Tribal Tract Number: 157-T1191

Legal description containing 139.36 acres, more or less.

Parcel A: Lot 16 of Mountain View Farm Tracts Plat Alteration, as per plat thereof recorded in Volume 13 of Plats, Page 94, Records of Clallam County, Washington.

Parcel B: Tract A and Lot 30 of Mountain Vista, as Per Plat thereof recorded in Volume 6 of Plats, Page 53, Records of Clallam County, Washington. Except the South 120 feet of the West 60 feet of said Tract A.

Parcel C: Tract “T” of Mountain Vista II, as recorded in Volume 6 of Plats, Page 73, Records of Clallam County, Washington.

Parcel D: The South 330 feet of the West 900 feet of the Southeast Quarter of the Northwest Quarter of Section 3, Township 30 North, Range 4 West, W.M., Clallam County, Washington; Excepting therefrom that portion described as beginning at the Southeast Corner of said Tract;

Running thence North along its East Boundary 330 feet;

Thence West along its North Boundary 200 feet;

Thence Southeasterly in a straight line 385 feet, more or less, to the point of beginning of this exception;

And except that portion conveyed to William H. Clevenger and Janis Clevenger, his wife, James M. Bunger and Barbara J. Bunger, his wife, and Richard J. Niichel and Frances M. Niichel, his wife, hereinafter called Ostrich Club, by Property Line Agreement recorded February 3, 1992, under Clallam County Recording No. 663413.

Parcel E: The Northeast Quarter of the Southwest Quarter of Section 3, Township 30 North, Range 4 West, W.M., Clallam County, Washington; Except that portion lying within the Plat of Mountain Vista II, as recorded in Volume 6 of Plat, Page 73, Records of Clallam County, Washington; Also except that portion conveyed to Don Edgington and Alice Edgington, husband and wife, by Deed dated May 22, 1980 and recorded on May 29, 1980, under Auditor's File No. 508165.

Parcel F: That portion of the Northeast Quarter of the Southeast Quarter of Section 3, Township 30 North, Range 4 West, W.M., Clallam County, Washington, described as follows:

Beginning at the Northwest Corner of said Northeast Quarter of the Southeast Quarter;

Thence South 88°31′46″ East 135.38 feet along its North Line;

Thence South 1°55′39″ West 550.00 feet;

Thence South 88°31′46″ East 80.07 feet;

Thence South 1°55′39″ West 200.07 feet to the North Right-of-Way Line of May Road;

Thence South 35°13′03″ East 77.19 feet;

Thence North 86°13′48″ West 262.21 feet along the South Right-of-Way Line of May Road;

Thence North 1°55′39″ East 801.45 feet along the West Line of said Southeast Quarter to the true point of beginning.

Parcel G: That Portion of the Southwest Quarter of the Southeast Quarter of Section 3, Township 30 North, Range 4 West, W.M., Clallam County, Washington, described as follows:

Thence South 88°00′49″ East along the South Line of said Southeast Quarter 1,002.44 feet to the point of beginning;

Thence continuing South 88°00″49″ East 326.32 feet to the East Line of the Southwest Quarter of said Southeast Quarter;

Thence North 1°55′39″ East along said East Line 496.67 feet;

Thence South 87°00′00″ West 215.32 feet;

Thence South 22°37′04″ West 315.88 feet;

Thence South 1°59′11″ West 182.36 feet to the point of beginning;

Except the South 30 feet for County Road No. 5250 known as Macleay Road.

Parcel H: That Portion of the Southwest Quarter of the Southeast Quarter of Section 3, Township 30 North, Range 4 West, W.M., Clallam County, Washington, described as follows:

Beginning at a point on the South Line of said Southeast Quarter South 88°00′49″ East 200 feet from its Southwest Corner;

Thence North 88°00′49″ West 200 feet to said Southwest Corner;

Thence North 1°55′40″ East along its West Line 527.92 feet;

Thence South 81°30′ East 160 feet, more or less, to the East Margin of Vista View Drive;

Thence Northerly along said Easterly Margin 160 feet, more or less, to the Southwest Corner of Lot 2 of Replat of Lots 27, 28 and 29 of Mountain Vista, as Recorded in Volume 10 of Plats, Page 9;

Thence South 60°15′ East 64.55 feet, more or less, to the center of the main channel of an unnamed stream;

Thence Southerly along said center of stream to a point which bears North 1°55′4″ East of the point of beginning;

Thence South 1°55′40″ West 450 feet, more or less, to the point of beginning;

Excepting therefrom that portion lying within said Mountain View Vista, as recorded in Volume 6 of Plats, Page 53;

And also except the South 30 feet for County Road No. 5250 known as Macleay Road.

Parcel I: The West Half of the Southeast Quarter of Section 3, Township 30 North, Range 4 West, W.M.;

Excepting therefrom that portion of the Southwest Quarter of the Southeast Quarter of Section 3, Township 30 North, Range 4 West, W.M., Clallam County, Washington, described as follows:

Beginning at the Southwest Corner of said Southeast Quarter;

Thence South 88°00′49″ East along the South Line of said Southeast Quarter 1,002.44 feet to the point of beginning;

Thence continuing South 88°00′49″ East 326.32 feet to the East Line of the Southwest Quarter of said Southeast Quarter;

Thence North 1°55′39″ East along said East Line 496.67 feet;

Thence South 87°00′00″ West 215.32 feet;

Thence South 22°37′04″ West 315.88 feet;

Thence South 1°59′11″ West 182.36 feet to the point of beginning;

And also except that portion of the Southwest Quarter of the Southeast Quarter of Section 3, Township 30 North, Range 4 West, W.M., Clallam County, Washington, described as follows:

Beginning at a point on the South Line of said Southeast Quarter South 88°00′49″ East 200 feet from its Southwest Corner;

Thence North 88°00′49″ West 200 feet to said Southwest Corner;

Thence North 1°55′40″ East along its West Line 527.92 feet;

Thence South 81°30′ East 160 feet, more or less, to the east margin of Vista View Drive;

Thence Northerly along said easterly margin 160 feet, more or less, to the Southwest Corner of Lot 2 of Replat of Lots 27, 28 and 29 of Mountain Vista, as recorded in Volume 10 of Plats, Page 9;

Thence South 60°15′ East 64.55 feet, more or less, to the center of the main channel of an unnamed stream;

Thence Southerly along said center of stream to a point which bears North 1°55′40″ East of the point of beginning;

Thence South 1°55′40″ West 450 feet, more or less, to the point of beginning; And except the Plats of Mountain Vista, as recorded in Volume 6 of Plats, Page 53, and Mountain Vista II, as recorded in Volume 6 of Plats, Page 73 and Dungeness Condominium, as recorded in Volume 1 of Condominium, Pages 156-161 inclusive; And also except the South 30 Feet for County Road No. 5250 known as Macleay Road.

Parcel J: Lot 2 of Replat of Lots 27, 28 and 29 of Mountain Vista, as recorded in Volume 10 of Plats, Pages 9 and 10, Records of Clallam County, Washington.

Parcel K: The East 72.03 feet of the West 305.38 feet of the South 496.69 feet of the Southeast Quarter of the Southeast Quarter of Section 3, Township 30 North, Range 4 West, W.M., Clallam County, Washington, except the South 30 feet thereof conveyed to Clallam County for Road by instrument recorded under Auditor's Files No. 357505.

Parcel L: Lot 1 of Stretch Short Plat, recorded June 26, 1995 in Volume 27 of Short Plats, Page 27, under Clallam County Recording No. 724466, being a portion of the Southeast Quarter of the Southeast Quarter of Section 3, Township 30 North, Range 4 West, W.M., Clallam County, Washington.

Parcel M: That Portion of the Northeast Quarter of the Southeast Quarter of Section 3, Township 30 North, Range 4 West, W.M., Clallam County, Washington, described as follows:

Beginning at a point on the North Line of said Southeast Quarter of the Southeast Quarter which is South 88°31′46″ East 365.38 feet from the Northwest Corner thereof, said point being the Northwest Corner of Lot 10 of Mountain View Farm Tracts, as recorded in Volume 6 of Plats, Page 41, Records of Clallam County, Washington;

Thence North 88°31′46″ West 230.00 feet;

Thence South 1°55′39″ West 550.00 feet;

Thence South 88°31′46″ East 80.07 feet;

Thence South 1°55′39″ West 200.07 feet to the North Right of Way Line of May Road;

Thence South 86°13′48″ East along said Right of Way 150.00 feet to the Southwest Corner of above said Lot 10;

Thence North 1°55′39″ East along the West Line of said Lot 10, a distance of 756.09 feet to the true point of beginning.

Parcel N: Lots 1 and 2 of Fung Short Plat, recorded June 16, 1992 in Volume 23 of Short Plats, Page 61, Under Clallam County Recording No. 669868, being a Short Plat of Lot 5 Mountain View Farm Tracts, as per plat thereof recorded in Volume 6 of Plats, Page 41, Records of Clallam County, Washington.

Parcel O: Lots 1 and 2 of Frankfurth Short Plat, recorded May 5, 1983 in Volume 12 of Short Plats, Page 84, under Clallam County Recording No. 542230, and amended under Clallam County Recording No. 558809, being a portion of the Southeast Quarter of the Southeast Quarter of Section 3, Township 30 North, Range 4 West, W.M., Clallam County, Washington.

Parcel P: The East 496.69 feet of the South 469.69 feet of the Southeast Quarter of the Southeast Quarter of Section 3, Township 30 North, Range 4 West, W.M., Clallam County, Washington; Except the South 30 feet thereof for County Road known as Woodcock Road; And except the East 30 feet thereof for County Road known as Cays Road;

Parcel Q: Lot 2 of Stretch Short Plat, recorded June 26, 1995 in Volume 27 of Short Plats, Page 27, under Clallam County Recording No. 724466, being a portion of the Southeast Quarter of the Southeast Quarter of Section 3, Township 30 North, Range 4 West, W.M., Clallam County, Washington.

Parcel R: An easement to operate and maintain a golf course as conveyed by instrument recorded on February 3, 1992, under Clallam County Recording No. 663413, on the following described property, to-wit:

A portion of the Southeast Quarter of the Northwest Quarter of Section 3, Township 30 North, Range 4 West, W.M., Clallam County, Washington, more particularly described as follows:

Commencing at the 4″ x 4″ concrete monument with a brass plate marking the Southwest Corner of said Southeast Quarter of the Northwest Quarter of said Section 3, as shown on Volume 12 of Surveys, Page 60, Records of Clallam County, Washington;

Thence South 88°31′16″ East along the South Line of said Southeast Quarter of the Northwest Quarter, a distance of 1,316.32 feet to the center of said Section 3, as shown on said Survey (all bearings and distances herein are relative to the Washington Coordinate System, North Zone), and the True Point of Beginning;

Thence North 88°31′16″ West along said South Line of the Southeast Quarter of the Northwest Quarter, a distance of 836.32 feet;

Thence North 45°02′43″ West, a distance of 412.20 feet;

Thence South 88°02′08″ East, a distance of 282.76 feet;

Thence South 40°06′24″ East, a distance of 249.91 feet;

Thence South 88°29′27″ East, a distance of 620.58 feet to the East Line of said Southeast Quarter of the Northwest Quarter;

Thence South 01°55′40″ West, a distance of 19.17 feet to the True Point of Beginning. Containing 139.36 acres, more or less.

The above described lands contain a total of 267.29 acres, more or less, which are subject to all valid rights, reservations, rights-of-way, and easements of record.

This proclamation does not affect title to the lands described above, nor does it affect any valid existing easements for public roads, highways, public utilities, railroads, and pipelines or any other valid easements or rights-of-way or reservations of record.

Dated: July 21, 2017.
Michael S. Black,
Acting Assistant Secretary—Indian Affairs.

[FR Doc. 2017-19915 Filed 9-18-17; 8:45 am]

BILLING CODE 4337-15-P